DEPARTMENT OF THE INTERIOR

National Indian Gaming Commission

Notice of Approved Class III Tribal Gaming Ordinance

AGENCY: National Indian Gaming Commission.

ACTION: Notice.

SUMMARY: The purpose of this notice is to inform the public of the approval of Tulalip Tribes of Washington's Class III gaming ordinance by the Chairman of the National Indian Gaming Commission.

DATES: This notice is applicable July 6, 2022.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On May 9, 2022, the Chairman of the National Indian Gaming Commission approved Tulalip Tribes of Washington's Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: June 28, 2022.
Michael Hoenig,
General Counsel.

May 9, 2022

VIA EMAIL

Chair Teri Gobin

Board of Directors, Tulalip Tribes

6406 Marine Drive

Tulalip, WA 98271

Re: Tulalip Tribes Amended Gaming Ordinance

Dear Chair Gobin:

This letter responds to the March 14, 2022 email submission on behalf of the Tulalip Tribes (“Tribes”) informing the National Indian Gaming Commission that the Tribes had amended its gaming ordinance. The submission included two administrative amendments that clarified the definition of “Tribal gaming operation” and added an attendance requirement for the Tribes gaming commissioners.

Thank you for bringing these amendments to our attention and for providing us with a thorough submission of the Band's gaming laws and regulations. The amended ordinance is approved as it is consistent with the requirements of the Indian Gaming Regulatory Act and NIGC's regulations. If you have any questions or require anything further, please contact Josh Proper at (202) 632-0294.

Sincerely,

E. Sequoyah Simermeyer

Chairman

[FR Doc. 2022-14298 Filed 7-5-22; 8:45 am]

BILLING CODE 7565-01-P